DEPARTMENT OF ENERGY

Federal Energy Regulatory Commission

Combined Notice of Filings #1

Take notice that the Commission received the following electric corporate filings:

Docket Numbers: EC16-98-000.

Applicants: Chubu Electric Power Company U.S.A. Inc., Tokyo Electric Power Company, Incorporated.

Description: Supplement to March 31, 2016 Application for Authorization Under Section 203 of the Federal Power Act of Chubu Electric Power Company U.S.A. Inc. et al.

Filed Date: 4/20/16.

Accession Number: 20160420-5037.

Comments Due: 5 p.m. ET 5/2/16.

Take notice that the Commission received the following electric rate filings:

Docket Numbers: ER13-2428-011.

Applicants: Kentucky Utilities Company.

Description: Compliance filing: Rate Case Settlement Municipal Contracts to be effective 4/23/2014.

Filed Date: 12/31/15.

Accession Number: 20151231-5087.

Comments Due: 5 p.m. ET 5/2/16.

Docket Numbers: ER13-2428-012.

Applicants: Kentucky Utilities Company.

Description: Compliance filing: Tariffs Conforming to Settlement to be effective 4/23/2014.

Filed Date: 4/13/16.

Accession Number: 20160413-5195.

Comments Due: 5 p.m. ET 5/2/16.

Docket Numbers: ER16-925-001.

Applicants: Niagara Mohawk Power Corporation, New York Independent System Operator, Inc.

Description: Compliance filing: NMPC compliance re: SA 2260 between NMPC and Indeck-Corinth to be effective 11/19/2015.

Filed Date: 4/20/16.

Accession Number: 20160420-5051.

Comments Due: 5 p.m. ET 5/11/16.

Docket Numbers: ER16-1129-002.

Applicants: VPI Enterprises, Inc.

Description: Tariff Amendment: Supplement to Application for Order Accepting Initial Market-Based Rate Tariff to be effective 3/11/2016.

Filed Date: 4/19/16.

Accession Number: 20160419-5158.

Comments Due: 5 p.m. ET 5/10/16.

Docket Numbers: ER16-1130-002.

Applicants: DifWind Farms Limited I.

Description: Tariff Amendment: Supplement to Application for Order Accepting Initial Market-Based Rate Tariff to be effective 3/11/2016.

Filed Date: 4/19/16.

Accession Number: 20160419-5149.

Comments Due: 5 p.m. ET 5/10/16.

Docket Numbers: ER16-1131-002.

Applicants: DifWind Farms Limited II.

Description: Tariff Amendment: Supplement to Application for Order Accepting Initial Market-Based Rate Tariff to be effective 3/11/2016.

Filed Date: 4/19/16.

Accession Number: 20160419-5153.

Comments Due: 5 p.m. ET 5/10/16.

Docket Numbers: ER16-1132-002.

Applicants: DifWind Farms Limited V.

Description: Tariff Amendment: Supplement to Application for Order Accepting Initial Market-Based Rate Tariff to be effective 3/11/2016.

Filed Date: 4/19/16.

Accession Number: 20160419-5157.

Comments Due: 5 p.m. ET 5/10/16.

Docket Numbers: ER16-1459-000.

Applicants: Southern California Edison Company.

Description: § 205(d) Rate Filing: LGIA RE Gaskell West LLC Gaskell West Project to be effective 4/20/2016.

Filed Date: 4/19/16.

Accession Number: 20160419-5187.

Comments Due: 5 p.m. ET 5/10/16.

Docket Numbers: ER16-1460-000.

Applicants: Aspirity Energy Northeast LLC.

Description: Tariff Cancellation: Notice of Cancellation of Market-Based Rate Tariff to be effective 6/20/2016.

Filed Date: 4/19/16.

Accession Number: 20160419-5201.

Comments Due: 5 p.m. ET 5/10/16.

Docket Numbers: ER16-1461-000.

Applicants: Tres Amigas, LLC.

Description: § 205(d) Rate Filing: Notice of Succession to be effective 12/10/2015.

Filed Date: 4/19/16.

Accession Number: 20160419-5206.

Comments Due: 5 p.m. ET 5/10/16.

Docket Numbers: ER16-1462-000.

Applicants: Palmco Power DE LLC.

Description: Baseline eTariff Filing: Palmco Power DE FERC Electric Tariff to be effective 5/19/2016.

Filed Date: 4/19/16.

Accession Number: 20160419-5207.

Comments Due: 5 p.m. ET 5/10/16.

Docket Numbers: ER16-1464-000.

Applicants: Palmco Power ME, LLC.

Description: Baseline eTariff Filing: Palmco Power ME FERC Electric Tariff to be effective 5/20/2016.

Filed Date: 4/20/16.

Accession Number: 20160420-5049.

Comments Due: 5 p.m. ET 5/11/16.

Docket Numbers: ER16-1465-000.

Applicants: Palmco Power MI LLC.

Description: Baseline eTariff Filing: Palmco Power MI FERC Electric Tariff to be effective 5/20/2016.

Filed Date: 4/20/16.

Accession Number: 20160420-5050.

Comments Due: 5 p.m. ET 5/11/16.

Docket Numbers: ER16-1466-000.

Applicants: Palmco Power NH LLC.

Description: Baseline eTariff Filing: Palmco Power NH FERC Electric Tariff to be effective 5/20/2016.

Filed Date: 4/20/16.

Accession Number: 20160420-5052.

Comments Due: 5 p.m. ET 5/11/16.

Docket Numbers: ER16-1467-000.

Applicants: Palmco Power VA LLC.

Description: Baseline eTariff Filing: Palmco Power VA FERC Electric Tariff to be effective 5/20/2016.

Filed Date: 4/20/16.

Accession Number: 20160420-5053.

Comments Due: 5 p.m. ET 5/11/16.

Docket Numbers: ER16-1468-000.

Applicants: Palmco Power RI LLC.

Description: Baseline eTariff Filing: Palmco Power RI FERC Electric Tariff to be effective 5/20/2016.

Filed Date: 4/20/16.

Accession Number: 20160420-5054.

Comments Due: 5 p.m. ET 5/11/16.

Docket Numbers: ER16-1469-000.

Applicants: Southwest Power Pool, Inc.

Description: § 205(d) Rate Filing: 1875R2 Kansas Electric Power Cooperative, Inc. NITSA and NOA to be effective 4/1/2016.

Filed Date: 4/20/16.

Accession Number: 20160420-5076.

Comments Due: 5 p.m. ET 5/11/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 20, 2016.
Nathaniel J. Davis, Sr.,
Deputy Secretary.

[FR Doc. 2016-09623 Filed 4-25-16; 8:45 am]

BILLING CODE 6717-01-P